DEPARTMENT OF HEALTH AND HUMAN SERVICES

Administration for Community Living

Agency Information Collection Activities; Submission for OMB Review; Public Comment Request; Title III Supplemental Form to Financial Status Report (SF-425), OMB #0985-0004

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the proposed information collection, Title III Supplemental Form to Financial Status Report (SF-425) OMB 0985-0004.

DATES: Submit written comments on the collection of information by 11:59 p.m. (EST) or postmarked by January 4, 2021.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Alice Kelsey, Administration for Community Living, Washington, DC 20201, (202) 795-7342, Alice.Kelsey@ACL.hhs.gov.

SUPPLEMENTARY INFORMATION: In compliance with 44 U.S.C. 3507, ACL has submitted the following proposed collection of information to OMB for review and clearance. The Title III Supplemental Form to the Financial Status Report (SF-425) is used by ACL/AoA for all grantees to obtain a more detailed understanding of how projects funded under Title III of the Older Americans Act (OAA) of 1965, as amended, are being administered, and to ensure compliance with legislative requirements, pertinent Federal regulations and other applicable instructions and guidelines issued by the ACL. The level of data detail necessary is not available through the SF-425 form. The Supplemental Form provides necessary details on non-federal required match, administration expenditures, and Long Term Care Ombudsman expenditures.

Comments in Response to the 60-Day Federal Register Notice

ACL published a 60-day Federal Register Notice in the Federal Register soliciting public comments on this request. The 60-day FRN published on August 19, 2020, Volume 85, Number 161, pages 51033-51034; ACL did not receive any public comments during the 60-day FRN period. The proposed data collection tools are on the ACL website for review and public comment, please visit https://www.acl.gov/about-acl/public-input.

Estimated Program Burden

ACL estimates the burden associated with this collection of information as follows: 56 State Units on Aging (SUA) respond semi-annually which have an average estimated burden of 2 hours per grantee for a total of 224 hours annually.

Respondent/data collection activity | Number of respondents | Responses per respondent | Hours per response | Annual burden hours
Title III Supplemental Form to the Financial Status Report | 56 | 2 | 2 | 224
Total | 56 | 2 | 2 | 224

Dated: November 27, 2020.
Mary Lazare,
Principal Deputy Administrator.

[FR Doc. 2020-26602 Filed 12-2-20; 8:45 am]

BILLING CODE 4154-01-P